NATIONAL TRANSPORTATION SAFETY BOARD

Sunshine Act Meeting

Time and Date: 9:30 a.m., Tuesday, August 22, 2000.

Place: NTSB Board Room, 429 L'Enfant Plaza, S.W., Washington, D.C. 20594.

Status: Open to the public.

Matters to be Considered: 6788G Aviation Accident Report: In-flight Breakup over the Atlantic Ocean, Trans World Airlines (TWA 800), Boeing 747-137, N93119, East Moriches, New York, July 17, 1996.

News Media Contact: Telephone: (202) 314-6100.

Individuals requesting specific accommodation should contact Mrs. Barbara Bush at (202) 314-6220 by Friday, August 19, 2000.

FOR FURTHER INFORMATION CONTACT: Rhonda Underwood (202) 314-6065.

August 11, 2000.
Rhonda Underwood,
Federal Register Liaison Officer.

[FR Doc. 00-20844 Filed 8-11-00; 3:50 pm]

BILLING CODE 7533-01-M